DEPARTMENT OF COMMERCE

International Trade Administration

[A-570-110, C-570-111]

Vertical Metal File Cabinets From the People's Republic of China: Antidumping and Countervailing Duty Orders

AGENCY: Enforcement and Compliance, International Trade Administration, Department of Commerce.

SUMMARY: Based on affirmative final determinations by the Department of Commerce (Commerce) and the International Trade Commission (ITC), Commerce is issuing the antidumping duty (AD) and countervailing duty (CVD) orders on vertical metal file cabinets (file cabinets) from the People's Republic of China (China).

DATES: Applicable December 13, 2019.

FOR FURTHER INFORMATION CONTACT: Kathryn Wallace at (202) 482-6251, AD/CVD Operations, Office VII, Enforcement and Compliance, International Trade Administration, U.S. Department of Commerce, 1401 Constitution Avenue NW, Washington, DC 20230.

SUPPLEMENTARY INFORMATION:

Background

In accordance with sections 705(d) and 735(d) of the Tariff Act of 1930, as amended (the Act), on October 25, 2019, Commerce published its affirmative final determination of sales at less-than-fair-value (LTFV) ¹ and its affirmative final determination that countervailable subsidies are being provided to producers and exporters of file cabinets from China.²

¹ See Vertical Metal File Cabinets from the People's Republic of China: Final Determination of Sales at Less-Than-Fair Value, 84 FR 57398 (October 25, 2019) (LTFV Final Determination).

² See Vertical Metal File Cabinets from the People's Republic of China: Final Affirmative Countervailing Duty Determination, 84 FR 57394 (October 25, 2019) (CVD Final Determination).

On December 2, 2019, the ITC notified Commerce of its final affirmative determination that an industry in the United States is materially injured by reason of LTFV imports and subsidized imports of file cabinets from China, within the meaning of section 705(b)(1)(A)(i) and 735(b)(1)(A)(i) of the Act.³

³ See ITC Letter dated December 2, 2019 (ITC Notification).

Scope of the Orders

The products covered by these orders are file cabinets from China. For a complete description of the scope of the orders, see Appendix I of this notice.

AD Order

On December 2, 2019, in accordance with section 735(d) of the Act, the ITC notified Commerce of its final determination that an industry in the United States is materially injured within the meaning of section 735(b)(1)(A)(i) of the Act by reason of imports of file cabinets from China that are sold in the United States at LTFV.⁴ Therefore, in accordance with section 735(c)(2) of the Act, we are issuing this AD order. Because the ITC determined that imports of file cabinets from China are materially injuring a U.S. industry, unliquidated entries of such merchandise from China entered, or withdrawn from warehouse, for consumption are subject to the assessment of antidumping duties, as described below.

⁴ See ITC Notification.

In accordance with section 736(a)(1) of the Act, Commerce will direct U.S. Customs and Border Protection (CBP) to assess, upon further instruction by Commerce, antidumping duties equal to the amount by which the normal value of the merchandise exceeds the export price or constructed export price of the subject merchandise, for all relevant entries of file cabinets from China. Antidumping duties will be assessed on unliquidated entries of file cabinets from China entered, or withdrawn from warehouse, for consumption on or after August 1, 2019, the date of publication of the LTFV Preliminary Determination ⁵ but will not be assessed on entries occurring after the expiration of the provisional measures period and before publication of the ITC's final affirmative injury determination, as further described below.

⁵ See Vertical Metal File Cabinets from the People's Republic of China: Preliminary Determination of Sales at Less-Than-Fair-Value, 83 FR 37618 (August 1, 2019) (LTFV Preliminary Determination).

Suspension of Liquidation—AD ⁶

⁶ Section 733(d) of the Act states that suspension of liquidation instructions issued pursuant to an affirmative preliminary determination may not remain in effect for more than four months, except where exporters representing a significant proportion of exports of the subject merchandise request Commerce to extend that four-month period to no more than six months. Commerce published its LTFV Preliminary Determination on August 1, 2019. Therefore, the four-month period, beginning on the date of publication of the LTFV Preliminary Determination, ends on December 1, 2019.

In accordance with section 735(c)(1)(B) of the Act, we will instruct CBP to reinstate suspension of liquidation on all relevant entries of file cabinets from China, effective on the date of the publication of the ITC's final affirmative injury determination in the Federal Register, and to assess, upon further instruction by Commerce pursuant to section 736(a)(1) of the Act, antidumping duties for each entry of the subject merchandise equal to the amount by which the normal value of the merchandise exceeds the export price or constructed export price of the merchandise. These instructions suspending liquidation will remain in effect until further notice. For each producer and exporter combination, Commerce will also instruct CBP to require cash deposits for estimated antidumping duties equal to the cash deposit rates listed below.

Accordingly, effective on the date of publication of the ITC Final Determination, CBP will require, at the same time as an importer of record would normally deposit estimated duties on the subject merchandise, a cash deposit based on the rates listed below.⁷ As stated in the LTFV Final Determination, Commerce made certain adjustments for export subsidies from the CVD Final Determination to the estimated weighted-average dumping margin to determine each of the cash deposit rates.

⁷ See section 736(a)(3) of the Act.

Producer | Exporter | Estimated weighted- average dumping margin (percent) | Cash Deposit Rate (percent)
China-Wide Entity | China-Wide Entity | 198.50 | 160.77

CVD Order

On December 2, 2019, in accordance with section 705(d) of the Act, the ITC notified Commerce of its final determination that an industry in the United States is materially injured within the meaning of section 705(b)(1)(A)(i) of the Act by reason of subsidized imports of file cabinets from China.⁸ Therefore, in accordance with section 705(c)(2) of the Act, we are issuing this CVD order. Because the ITC determined that imports of file cabinets from China are materially injuring a U.S. industry, unliquidated entries of such merchandise from China entered, or withdrawn from warehouse, for consumption are subject to the assessment of countervailing duties, as described below.

⁸ See ITC Notification.

As a result of the ITC's final determination, in accordance with section 706(a)(1) of the Act, Commerce will direct CBP to assess, upon further instruction by Commerce, countervailing duties on all relevant entries of file cabinets from China. Countervailing duties will be assessed on unliquidated entries of file cabinets from China entered, or withdrawn from warehouse, for consumption on or after August 1, 2019, the date of publication of the CVD Preliminary Determination,⁹ but will not be assessed on entries occurring after the expiration of the provisional measures period and before publication of the ITC's final affirmative injury determination, as further described below.

⁹ See Vertical Metal File Cabinets from the People's Republic of China: Preliminary Affirmative Countervailing Duty Determination, 84 FR 37622 (August 1, 2019) (CVD Preliminary Determination).

Suspension of Liquidation—CVD ¹⁰

¹⁰ Section 703(d) of the Act states that suspension of liquidation instructions issued pursuant to an affirmative preliminary determination may not remain in effect for more than four months. Commerce published its LTFV Preliminary Determination on August 1, 2019. Therefore, the four-month period beginning on the date of publication of the LTFV Preliminary Determination ends on December 1, 2019.

In accordance with section 705(c)(1)(B) of the Act, we will instruct CBP to reinstitute suspension of liquidation on all relevant entries of file cabinets from China. These instructions suspending liquidation will remain in effect until further notice. Commerce will also instruct CBP to require cash deposits equal to the amounts as indicated below. Accordingly, effective on the date of publication of the ITC's final affirmative injury determination, CBP will require, at the same time as importers would normally deposit estimated duties on the subject merchandise, a cash deposit for each entry of subject merchandise equal to the subsidy rates listed below.¹¹ The all-others rate applies to all producers or exporters not specifically listed below, as appropriate.

¹¹ See section 706(a)(3) of the Act.

Companies | Subsidy rate (percent)
Non-Responsive Companies ¹² | 271.79
All Others ¹³ | 271.79

Notifications to Interested Parties

This notice constitutes the AD and CVD orders with respect to file cabinets from China pursuant to sections 706(a) and 736(a) of the Act. Interested parties can find a list of orders currently in effect at http://enforcement.trade.gov/stats/iastats1.html.

¹² See Appendix II: List of Companies Receiving CVD AFA Rate.

¹³ See Appendix III: List of Companies Receiving CVD All-Others Rate.

These orders are published in accordance with sections 706(a) and 736(a) of the Act and 19 CFR 351.211(b).

Dated: December 5, 2019.
Jeffrey I. Kessler,
Assistant Secretary for Enforcement and Compliance.

Appendix I

Scope of the Orders

The scope of these orders covers freestanding vertical metal file cabinets containing two or more extendable file storage elements and having an actual width of 25 inches or less.

The subject vertical metal file cabinets have bodies made of carbon and/or alloy steel and or other metals, regardless of whether painted, powder coated, or galvanized or otherwise coated for corrosion protection or aesthetic appearance. The subject vertical metal file cabinets must have two or more extendable elements for file storage (e.g., file drawers) of a height that permits hanging files of either letter (8.5″ x 11″) or legal (8.5″ x 14″) sized documents.

An “extendable element” is defined as a movable load-bearing storage component including, but not limited to, drawers and filing frames. Extendable elements typically have suspension systems, consisting of glide blocks or ball bearing glides, to facilitate opening and closing.

The subject vertical metal file cabinets typically come in models with two, three, four, or five-file drawers. The inclusion of one or more additional non-file-sized extendable storage elements, not sized for storage files (e.g., box or pencil drawers), does not remove an otherwise in-scope product from the scope as long as the combined height of the non-file-sized extendable storage elements does not exceed six inches. The inclusion of an integrated storage area that is not extendable (e.g., a cubby) and has an actual height of six inches or less, also does not remove a subject vertical metal file cabinet from the scope. Accessories packaged with a subject vertical file cabinet, such as separate printer stands or shelf kits that sit on top of the in-scope vertical file cabinet are not considered integrated storage.

“Freestanding” means the unit has a solid top and does not have an open top or a top with holes punched in it that would permit the unit to be attached to, hung from, or otherwise used to support a desktop or other work surface. The ability to anchor a vertical file cabinet to a wall for stability or to prevent it from tipping over does not exclude the unit from the scope.

The addition of mobility elements such as casters, wheels, or a dolly does not remove the product from the scope. Packaging a subject vertical metal file cabinet with other accessories, including, but not limited to, locks, leveling glides, caster kits, drawer accessories (e.g., including but not limited to follower wires, follower blocks, file compressors, hanger rails, pencil trays, and hanging file folders), printer stand, shelf kit and magnetic hooks, also does not remove the product from the scope. Vertical metal file cabinets are also in scope whether they are imported assembled or unassembled with all essential parts and components included.

Excluded from the scope are lateral metal file cabinets. Lateral metal file cabinets have a width that is greater than the body depth, and have a body with an actual width that is more than 25 inches wide.

Also excluded from the scope are pedestal file cabinets. Pedestal file cabinets are metal file cabinets with body depths that are greater than or equal to their width, are under 31 inches in actual height, and have the following characteristics: (1) An open top or other the means for the cabinet to be attached to or hung from a desktop or other work surface such as holes punched in the top (i.e., not freestanding); or (2) freestanding file cabinets that have all of the following: (a) At least a 90 percent drawer extension for all extendable file storage elements; (b) a central locking system; (c) a minimum weight density of 9.5 lbs./cubic foot; and (d) casters or leveling glides.

“Percentage drawer extension” is defined as the drawer travel distance divided by the inside depth dimension of the drawer. Inside depth of drawer is measured from the inside of the drawer face to the inside face of the drawer back. Drawer extension is the distance the drawer travels from the closed position to the maximum travel position which is limited by the out stops. In situations where drawers do not include an out stop, the drawer is extended until the drawer back is 3½ inches from the closed position of inside face of the drawer front. The “weight density” is calculated by dividing the cabinet's actual weight by its volume in cubic feet (the multiple of the product's actual width, depth, and height). A “central locking system” locks all drawers in a unit.

Also excluded from the scope are fire proof or fire-resistant file cabinets that meet Underwriters Laboratories (UL) fire protection standard 72, class 350, which covers the test procedures applicable to fire-resistant equipment intended to protect paper records.

The merchandise subject to the orders is classified under Harmonized Tariff Schedule of the United States (HTSUS) subheading 9403.10.0020. The subject merchandise may also enter under HTSUS subheadings 9403.10.0040, 9403.20.0080, and 9403.20.0090. While HTSUS subheadings are provided for convenience and customs purposes, the written description of the scope of the orders is dispositive.

Appendix II

List of Non-Responsive Companies Receiving the CVD AFA Rate

1. Best Beauty Furniture Co., Ltd.

2. Chung Wah Steel Furniture Factory

3. Concept Furniture (Anhui) Co., Ltd.

4. Dong Guan Shing Fai Furniture

5. Dongguan Zhisheng Furniture Co., Ltd.

6. Feel Life Co., Ltd.

7. Fujian lvyer Industrial Co., Ltd.

8. Fuzhou Nu Deco Crafts Co., Ltd.

9. Fuzhou Yibang Furniture Co., Ltd.

10. Gold Future Furnishing Co., Ltd.

11. Guangdong Hongye Furniture

12. Guangxi Gicon Office Furniture Co., Ltd.

13. Guangzhou City Yunrui Imp.

14. Hangzhou Zongda Co., Ltd.

15. Heze Huayi Chemical Co., Ltd.

16. Highbright Enterprise Ltd.

17. Homestar Corp.

18. Honghui Wooden Crafts Co., Ltd.

19. Huabao Steel Appliance Co., Ltd.

20. I.D. International Inc.

21. Jiangmen Kinwai International

22. Jiaxing Haihong Electromechanical Technology Co., Ltd.

23. Long Sheng Office Furniture

24. Louyong Hua Zhi Jie Office Furniture Co., Ltd.

25. Luoyang Hua Wei Office Furniture Co., Ltd.

26. Luoyang Huadu Imp. Exp. Co., Ltd.

27. Luoyang Mas Younger Office Furniture Co., Ltd.

28. Luoyang Shidiu Import & Export Co., Ltd.

29. Luoyang Zhenhai Furniture Co., Ltd.

30. Ningbo Sunburst International Trading Co., Ltd.

31. Ri Time Group Inc. (Szx)

32. Shenzhen Heng Li de Industry Co., Ltd.

33. Shenzhen Zhijuan (Zhiyuan) Technology Co., Ltd.

34. Shiny Way Furniture Co., Ltd.

35. South Metal Furniture Factory

36. Suzhou Jie Quan (Jinyuan) Trading Co., Ltd.

37. T.H.I. Group (Shanghai) Ltd.

38. Tianjin First Wood Co., Ltd.

39. UenJoy (Tianjin) Technology Co., Ltd.

40. Xiamen Extreme Creations

41. Xinhui Second Light Machinery Factory Co., Ltd

42. Yahee Technologies

43. Zhe Jiang Jiayang Imp. & Exp. Co., Ltd.

44. Zhejiang Ue Furniture Co., Ltd.

45. Zhong Shan Yue Qin Imp. & Exp.

46. Zhongshan Fmarts Furniture Co., Ltd.

Appendix III

List of Companies Receiving the CVD All-Others Rate

The companies receiving the all-others rate include:

1. Guangzhou Perfect Office Furniture

2. Guangzhou Textiles Holdings Limited

3. Huisen Furniture (Longnan) Co., Ltd.

4. Invention Global Ltd.

5. Jiangxi Yuanjin Science & Technology Group Co., Ltd.

6. Jpc Co., Ltd. (HK)

7. Leder Lighting Co., Ltd.

8. Luoyang Cuide Imp. & Exp.

9. Ningbo Haishu Spark Imp. & Exp. Co., Ltd.

10. Ningbo Haitian International Co.

11. Qingdao Liansheng

12. Shanxi Ktl Agricultural Technology Co., Ltd.

13. Shanxi Sijian Group Co., Ltd.

14. Shenzhen Zhilai Sci and Tech Co., Ltd.

15. Top Perfect Ltd.

16. Zhengzhou Puhui Trading Co., Ltd.

[FR Doc. 2019-27028 Filed 12-12-19; 8:45 am]

BILLING CODE 3510-DS-P